DEPARTMENT OF COMMERCE

International Trade Administration

A-427-818

Notice of Extension of Time Limit for Final Results of Antidumping Duty Administrative Review: Low Enriched Uranium from France

AGENCY: Import Administration, International Trade Administration, Department of Commerce.

EFFECTIVE DATE: May 10, 2005.

FOR FURTHER INFORMATION CONTACT: Elfi Blum or Myrna Lobo at (202) 482-0197 or (202) 482-2371, respectively; AD/CVD Operations, Office 6, Import Administration, International Trade Administration, U.S. Department of Commerce, 14th Street and Constitution Avenue, NW., Washington, DC 20230.

SUPPLEMENTARY INFORMATION:

Background

On March 7, 2005, the Department published the preliminary results of the administrative review of the antidumping duty order on low enriched uranium from France for the period February 1, 2003 through January 31, 2004. See Low Enriched Uranium from France: Preliminary Results of Antidumping Duty Administrative Review (70 FR 10957). The current deadline for the final results of this review is July 7, 2005.

Extension of Time Limit for Final Results of Review

Section 751(a)(3)(A) of the Tariff Act of 1930, as amended (the Act) requires the Department of Commerce (the Department) to issue the final results in an administrative review within 120 days after the date on which the preliminary results were published. However, if it is not practicable to complete the review within this time period, section 751(a)(3)(A) of the Act allows the Department to extend the time limit for the final results to 180 days from the date of publication of the preliminary results. The Department finds that it is not practicable to complete the review within the original time frame due to the complex nature of the case and because the Department is seeking clarification on certain issues (supplemental questionnaires were issued on March 8, 2005 and March 18, 2005, after the preliminary results were issued). In order to provide the Department sufficient time to review the submissions, conduct verification, and thoroughly analyze all information on the record, completion of this review is not practicable within the original time limit. Consequently, in accordance with section 751(a)(3)(A) of the Act and section 351.213(h)(2) of the Department's regulations, the Department is extending the time limit for the completion of the final results of the review until no later than September 6, 2005, which is the next business day after 180 days from the publication of the preliminary results. This notice is issued and published in accordance with section 751(a)(3)(A) of the Act.

Dated: May 2, 2005.
Barbara E. Tillman,
Acting Deputy Assistant Secretary for Import Administration.

[FR Doc. E5-2295 Filed 5-9-05; 8:45 am]

BILLING CODE 3510-DS-S